DEPARTMENT OF LABOR

Employment Standards Administration

Proposed Extension of the Approval of Information Collection Requirements

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Office of Federal Contract Compliance Programs Recordkeeping and Reporting Requirements, Supply and Service. A copy of the proposed information collection request can be obtained by contacting the office listed below in the addresses section of this Notice.

DATES: Written comments must be submitted to the office listed in the addresses section below on or before July 7, 2008.

ADDRESSES: Ms. Hazel M. Bell, U.S. Department of Labor, 200 Constitution Ave., NW., Room S-3201, Washington, DC 20210, telephone (202) 693-0418, fax (202) 693-1451, e-mail bell.hazel@dol.gov. Please use only one method of transmission for comments (mail, fax, or e-mail).

SUPPLEMENTARY INFORMATION: I. Background: The Office of Federal Contract Compliance Programs (OFCCP) is responsible for the administration of three equal opportunity programs prohibiting employment discrimination and requiring affirmative action. The OFCCP administers Executive Order 11246, as amended; section 503 of the Rehabilitation Act of 1973, as amended; and the affirmative action provisions of the Vietnam Era Veterans' Readjustment Assistance Act of 1974, as amended (VEVRAA), 38 U.S.C. 4212. The regulations implementing the Executive Order program are found at 41 CFR parts 60-1, 60-2, 60-3, 60-4, 60-20, 60-30, 60-40, and 60-50. The regulations implementing section 503 are published at 41 CFR part 60-741. The regulations implementing VEVRAA are found at 41 CFR part 60-250. These regulations require contractors to develop and maintain Affirmative Action Programs (AAP). OFCCP reviews these AAPs through its compliance evaluation process. The Supply and Service Scheduling Letter provides the contractor notice of its selection for a compliance evaluation and requests the submission of its Affirmative Action Programs and supporting documentation.

OFCCP published a Final Rule on August 8, 2007, with an effective date of September 7, 2007, that adopts new regulations implementing the Jobs for Veterans Act amendments to the affirmative action provisions of VEVRAA. The new regulations are codified in a new 41 CFR part 60-300.

In addition, OFCCP published a Final Rule on June 22, 2005, with a July 22, 2005, effective date, revising the regulations implementing section 503 of the Rehabilitation Act of 1973, as amended, to authorize the use of the compliance evaluation approach to determine a contractor's compliance with section 503. Neither Final Rule made any changes in burden hours associated with the Scheduling Letter. This information collection is currently approved for use through November 30, 2008.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: OFCCP seeks a three-year extension on the approval of the Supply and Service Scheduling Letter in order to carry out its responsibility to ensure that contractors develop and maintain Affirmative Action Programs.

Type of Review: Extension.

Agency: Employment Standards Administration.

Title: OFCCP Recordkeeping and Reporting Requirements, Supply and Service.

OMB Number: 1215-0072.

Affected Public: Business or other for-profit, not-for-profit institutions.

Total Respondents: 99,028.

Total Annual Responses: 99,028.

Estimated Average Time per Response: 101 hours.

Estimated Total Burden Hours: 10,045,984.

Frequency: Annually.

Total Burden Cost (capital/startup): $0.

Total Burden Cost (operating/maintenance): $120,019.

Comments submitted in response to this notice will be summarized and/or included in the request for Office of Management and Budget approval of the information collection request; they will also become a matter of public record.

Dated: May 1, 2008.
Steve Andoseh,
Acting Chief, Branch of Management Review and Internal Control, Division of Financial Management, Office of Management, Administration and Planning, Employment Standards Administration.

[FR Doc. E8-9915 Filed 5-5-08; 8:45 am]

BILLING CODE 4510-CM-P